SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: December 1, 2025-January 31, 2026.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22 (f) for the time period specified above.

Approvals by Rule—Issued Under 18 CFR 806.22(f)

1. RENEWAL—Expand Operating LLC; Pad ID: Folta; ABR-201010044.R3; Tuscarora Township, Bradford County, Pa.; Consumptive Use of Up to 7.5000 mgd; Approval Date: December 2, 2025.

2. Seneca Resources Company, LLC; Pad ID: Evans 765; ABR-202512001; Chatham Township, Tioga County, Pa.; Consumptive Use of Up to 4.0000 mgd; Approval Date: December 2, 2025.

3. Seneca Resources Company, LLC; Pad ID: Pauling 723; ABR-202512002; Farmington Township, Tioga County, Pa.; Consumptive Use of Up to 4.0000 mgd; Approval Date: December 2, 2025.

4. MODIFICATION—Coterra Energy Inc.; Pad ID: BusikJ P1; ABR-201206001.R2.1; Dimock Township, Susquehanna County, Pa.; Consumptive Use of Up to 6.5000 mgd; Approval Date: December 27, 2025.

5. MODIFICATION—Coterra Energy Inc.; Pad ID: DobrosielskiJ P1; ABR-202312003.1; Auburn and Dimock Townships, Susquehanna County, Pa.; Consumptive Use of Up to 6.5000 mgd; Approval Date: December 27, 2025.

6. RENEWAL—Blackhill Energy LLC; Pad ID: BEARDSLEE 2H Pad; ABR-201008085.R3; Springfield Township, Bradford County, Pa.; Consumptive Use of Up to 4.9990 mgd; Approval Date: December 27, 2025.

7. RENEWAL—Blackhill Energy LLC; Pad ID: JENKINS 1H; ABR-20100426.R3; Springfield Township, Bradford County, Pa.; Consumptive Use of Up to 1.9990 mgd; Approval Date: December 27, 2025.

8. RENEWAL—Blackhill Energy LLC; Pad ID: Olsyn 1H; ABR-201509004.R2; Springfield Township, Bradford County, Pa.; Consumptive Use of Up to 3.0000 mgd; Approval Date: December 27, 2025.

9. RENEWAL—Coterra Energy Inc.; Pad ID: Black P1; ABR-20080708.R3; Springville Township, Susquehanna County, Pa.; Consumptive Use of Up to 5.0000 mgd; Approval Date: December 27, 2025.

10. RENEWAL—Coterra Energy Inc.; Pad ID: Costello P1; ABR-20080707.R3; Dimock Township, Susquehanna County, Pa.; Consumptive Use of Up to 5.0000 mgd; Approval Date: December 27, 2025.

11. RENEWAL—Coterra Energy Inc.; Pad ID: Costello P2; ABR-20080804.R3; Dimock Township, Susquehanna County, Pa.; Consumptive Use of Up to 5.0000 mgd; Approval Date: December 27, 2025.

12. RENEWAL—Coterra Energy Inc.; Pad ID: FraserE P1; ABR-201009052.R3; Forest Lake Township, Susquehanna County, Pa.; Consumptive Use of Up to 5.0000 mgd; Approval Date: December 27, 2025.

13. RENEWAL—Coterra Energy Inc.; Pad ID: Lewis P1; ABR-20080803.R3; Dimock Township, Susquehanna County, Pa.; Consumptive Use of Up to 5.0000 mgd; Approval Date: December 27, 2025.

14. RENEWAL—Coterra Energy Inc.; Pad ID: Lewis P2; ABR-20080802.R3; Dimock Township, Susquehanna County, Pa.; Consumptive Use of Up to 5.0000 mgd; Approval Date: December 27, 2025.

15. RENEWAL—EQT ARO LLC; Pad ID: COP Tr 685 Pad C; ABR-201009013.R3; Cummings Township, Lycoming County, Pa.; Consumptive Use of Up to 4.0000 mgd; Approval Date: December 27, 2025.

16. RENEWAL—EQT ARO LLC; Pad ID: Gayla D Loch Pad A; ABR-201009083.R3; Cogan House Township, Lycoming County, Pa.; Consumptive Use of Up to 4.0000 mgd; Approval Date: December 27, 2025.

17. RENEWAL—EQT ARO LLC; Pad ID: Nevin L Smith Pad A; ABR-201008115.R3; Gamble Township, Lycoming County, Pa.; Consumptive Use of Up to 4.0000 mgd; Approval Date: December 27, 2025.

18. RENEWAL—EXCO Resources (PA), LLC; Pad ID: Wistar-Shaffer Tracts Drilling Pad #1; ABR-201009071.R3; Shrewsbury Township, Sullivan County, Pa.; Consumptive Use of Up to 8.0000 mgd; Approval Date: December 27, 2025.

19. RENEWAL—Expand Operating LLC; Pad ID: B & B Investment Group Drilling Pad #1; ABR-201010068.R3; Asylum Township, Bradford County, Pa.; Consumptive Use of Up to 7.5000 mgd; Approval Date: December 27, 2025.

20. RENEWAL—Expand Operating LLC; Pad ID: Bahl Drilling Pad; ABR-201510007.R2; Forks Township, Sullivan County, Pa.; Consumptive Use of Up to 7.5000 mgd; Approval Date: December 27, 2025.

21. RENEWAL—Expand Operating LLC; Pad ID: Baltzley; ABR-201012020.R3; Rush Township, Susquehanna County, Pa.; Consumptive Use of Up to 7.5000 mgd; Approval Date: December 27, 2025.

22. RENEWAL—Expand Operating LLC; Pad ID: Burkmont Farms; ABR-201012007.R3; Wilmot Township, Bradford County, Pa.; Consumptive Use of Up to 7.5000 mgd; Approval Date: December 27, 2025.

23. RENEWAL—Expand Operating LLC; Pad ID: Norton; ABR-201011008.R3; Elkland Township, Sullivan County, Pa.; Consumptive Use of Up to 7.5000 mgd; Approval Date: December 27, 2025.

24. RENEWAL—Expand Operating LLC; Pad ID: Penecale; ABR-201011060.R3; North Branch Township, Wyoming County, Pa.; Consumptive Use of Up to 7.5000 mgd; Approval Date: December 27, 2025.

25. RENEWAL—Expand Operating LLC; Pad ID: Taylor; ABR-201011034.R3; Orwell Township, Bradford County, Pa.; Consumptive Use of Up to 7.5000 mgd; Approval Date: December 27, 2025.

26. RENEWAL—Expand Operating LLC; Pad ID: Zaleski; ABR-201011021.R3; Asylum Township, Bradford County, Pa.; Consumptive Use of Up to 7.5000 mgd; Approval Date: December 27, 2025.

27. RENEWAL—Formentera Operations LLC; Pad ID: Hensler Well Site; ABR-201506004.R2; Hepburn Township, Lycoming County, Pa.; Consumptive Use of Up to 4.0000 mgd; Approval Date: December 27, 2025.

28. RENEWAL—Frontier Natural Resources, Inc.; Pad ID: Winner 4H; ABR-201009094.R3; West Keating Township, Clinton County, Pa.; Consumptive Use of Up to 4.0000 mgd; Approval Date: December 27, 2025.

29. RENEWAL—Pennsylvania General Energy Company, L.L.C.; Pad ID: SUSQ Huckleberry—Pad D; ABR-202012001.R1; Union Township, Tioga County, Pa.; Consumptive Use of Up to 4.5000 mgd; Approval Date: December 27, 2025.

30. RENEWAL—Seneca Resources Company, LLC; Pad ID: Fish 826; ABR-201009027.R3; Middlebury Township, Tioga County, Pa.; Consumptive Use of Up to 4.0000 mgd; Approval Date: December 27, 2025.

31. RENEWAL—Seneca Resources Company, LLC; Pad ID: Klettlinger 294; ABR-201009054.R3; Delmar Township, Tioga County, Pa.; Consumptive Use of Up to 4.0000 mgd; Approval Date: December 27, 2025.

32. RENEWAL—XTO Energy Inc.; Pad ID: Lucella 8564H; ABR-201009074.R3; Moreland Township, Lycoming County, Pa.; Consumptive Use of Up to 4.0000 mgd; Approval Date: December 27, 2025.

33. Range Resources—Appalachia, LLC; Pad ID: Bear Hollow; ABR-202512004; Jackson Township, Lycoming County, Pa.; Consumptive Use of Up to 4.0000 mgd; Approval Date: December 30, 2025.

34. RENEWAL—Seneca Resources Company, LLC; Pad ID: Appold 493; ABR-201008126.R3; Sullivan Township, Tioga County, Pa.; Consumptive Use of Up to 4.0000 mgd; Approval Date: December 30, 2025.

35. RENEWAL—BKV Operating, LLC; Pad ID: Baker North; ABR-201012040.R3; Forest Lake Township, Susquehanna County, Pa.; Consumptive Use of Up to 5.0000 mgd; Approval Date: December 31, 2025.

36. RENEWAL—BKV Operating, LLC; Pad ID: Shaskas South; ABR-201011022.R3; Jessup Township, Susquehanna County, Pa.; Consumptive Use of Up to 5.0000 mgd; Approval Date: December 31, 2025.

37. RENEWAL—Expand Operating LLC; Pad ID: Comstock; ABR-201011053.R3; Rome Township, Bradford County, Pa.; Consumptive Use of Up to 7.5000 mgd; Approval Date: December 31, 2025.

38. RENEWAL—Expand Operating LLC; Pad ID: DGSM; ABR-201012038.R3; Smithfield Township, Bradford County, Pa.; Consumptive Use of Up to 7.5000 mgd; Approval Date: December 31, 2025.

39. RENEWAL—Expand Operating LLC; Pad ID: Gregory; ABR-201011004.R3; Wysox Township, Bradford County, Pa.; Consumptive Use of Up to 7.5000 mgd; Approval Date: December 31, 2025.

40. RENEWAL—Expand Operating LLC; Pad ID: Hart North Drilling Pad; ABR-201510006.R2; Elkland Township, Sullivan County, Pa.; Consumptive Use of Up to 7.5000 mgd; Approval Date: December 31, 2025.

41. RENEWAL—Expand Operating LLC; Pad ID: M&M Estates; ABR-201011013.R3; Fox Township, Sullivan County, Pa.; Consumptive Use of Up to 7.5000 mgd; Approval Date: December 31, 2025.

42. RENEWAL—Expand Operating LLC; Pad ID: PMG God Drilling Pad #1; ABR-201011068.R3; Asylum Township, Bradford County, Pa.; Consumptive Use of Up to 7.5000 mgd; Approval Date: December 31, 2025.

43. RENEWAL—Repsol Oil & Gas USA, LLC; Pad ID: Heuer 701; ABR-201010010.R3; Union Township, Tioga County, Pa.; Consumptive Use of Up to 6.0000 mgd; Approval Date: December 31, 2025.

44. Formentera Operations LLC; Pad ID: Strouse—Well Pad; ABR-202601001; Hepburn Township, Lycoming County, Pa.; Consumptive Use of Up to 4.0000 mgd; Approval Date: January 21, 2026.

45. RENEWAL—Expand Operating LLC; Pad ID: Behrend Pad; ABR-201010031.R3; Herrick Township, Bradford County, Pa.; Consumptive Use of Up to 7.5000 mgd; Approval Date: January 21, 2026.

46. RENEWAL—Expand Operating LLC; Pad ID: Hollenbeck ABR; ABR-201010017.R3; Franklin Township, Susquehanna County, Pa.; Consumptive Use of Up to 7.5000 mgd; Approval Date: January 21, 2026.

47. RENEWAL—Expand Operating LLC; Pad ID: Primrose; ABR-201011035.R3; Standing Stone Township, Bradford County, Pa.; Consumptive Use of Up to 7.5000 mgd; Approval Date: January 21, 2026.

48. RENEWAL—Expand Operating LLC; Pad ID: Ross Pad; ABR-201009086.R3; Herrick Township, Bradford County, Pa.; Consumptive Use of Up to 7.5000 mgd; Approval Date: January 21, 2026.

49. RENEWAL—Expand Operating LLC; Pad ID: WR-68 Depue Pad; ABR-201009098.R3; Franklin Township, Susquehanna County, Pa.; Consumptive Use of Up to 7.5000 mgd; Approval Date: January 21, 2026.

50. RENEWAL—Repsol Oil & Gas USA, LLC; Pad ID: DECRISTO (05 022) D; ABR-201010026.R3; Warren Township, Bradford County, Pa.; Consumptive Use of Up to 6.0000 mgd; Approval Date: January 21, 2026.

51. RENEWAL—Repsol Oil & Gas USA, LLC; Pad ID: East Point Fish & Game Club 726; ABR-201010014.R3; Liberty Township, Tioga County, Pa.; Consumptive Use of Up to 6.0000 mgd; Approval Date: January 21, 2026.

52. RENEWAL—Seneca Resources Company, LLC; Pad ID: Byrne 510; ABR-201009059.R3; Rutland Township, Tioga County, Pa.; Consumptive Use of Up to 4.0000 mgd; Approval Date: January 21, 2026.

53. RENEWAL—Seneca Resources Company, LLC; Pad ID: Hudson 575; ABR-201010029.R3; Charleston Township, Tioga County, Pa.; Consumptive Use of Up to 4.0000 mgd; Approval Date: January 21, 2026.

54. RENEWAL—Seneca Resources Company, LLC; Pad ID: Patterson 570; ABR-201009097.R3; Charleston Township, Tioga County, Pa.; Consumptive Use of Up to 4.0000 mgd; Approval Date: January 21, 2026.

55. RENEWAL—Seneca Resources Company, LLC; Pad ID: PHC Pad S; ABR-201009023.R3; Lawrence Township, Clearfield County, Pa.; Consumptive Use of Up to 4.0000 mgd; Approval Date: January 21, 2026.

56. RENEWAL—Seneca Resources Company, LLC; Pad ID: Redl 600; ABR-201010013.R3; Sullivan Township, Tioga County, Pa.; Consumptive Use of Up to 4.0000 mgd; Approval Date: January 21, 2026.

57. RENEWAL—Seneca Resources Company, LLC; Pad ID: SGL 90A Pad; ABR-201008049.R3; Lawrence Township, Clearfield County, Pa.; Consumptive Use of Up to 4.0000 mgd; Approval Date: January 21, 2026.

58. RENEWAL—Seneca Resources Company, LLC; Pad ID: Westbrook 487; ABR-201010040.R3; Richmond Township, Tioga County, Pa.; Consumptive Use of Up to 4.0000 mgd; Approval Date: January 21, 2026.

59. RENEWAL—XPR Resources LLC; Pad ID: Alder Run LP #5H; ABR-201512001.R2; Cooper Township, Clearfield County, Pa.; Consumptive Use of Up to 4.0000 mgd; Approval Date: January 21, 2026.

60. RENEWAL—Coterra Energy Inc.; Pad ID: Daniels Pad; ABR-201010018.R3; Gibson Township, Susquehanna County, Pa.; Consumptive Use of Up to 5.0000 mgd; Approval Date: January 22, 2026.

61. RENEWAL—Coterra Energy Inc.; Pad ID: JHHC P1; ABR-201511009.R2; Jessup Township, Susquehanna County, Pa.; Consumptive Use of Up to 5.0000 mgd; Approval Date: January 22, 2026.

62. RENEWAL—Coterra Energy Inc.; Pad ID: MerrittM P1; ABR-202101001.R1; Gibson Township, Susquehanna County, Pa.; Consumptive Use of Up to 5.0000 mgd; Approval Date: January 22, 2026.

63. RENEWAL—Coterra Energy Inc.; Pad ID: MyersR P1; ABR-201511004.R2; Lathrop Township, Susquehanna County, Pa.; Consumptive Use of Up to 5.0000 mgd; Approval Date: January 22, 2026.

64. RENEWAL—Coterra Energy Inc.; Pad ID: RomeikaJ P1; ABR-201511005.R2; Gibson Township, Susquehanna County, Pa.; Consumptive Use of Up to 5.0000 mgd; Approval Date: January 22, 2026.

65. RENEWAL—Coterra Energy Inc.; Pad ID: StalterD P1; ABR-201011030.R3; Lenox Township, Susquehanna County, Pa.; Consumptive Use of Up to 5.0000 mgd; Approval Date: January 22, 2026.

66. RENEWAL—EQT ARO LLC; Pad ID: Kenneth T Schriner Pad A; ABR-201009107.R3; Gamble Township, Lycoming County, Pa.; Consumptive Use of Up to 4.0000 mgd; Approval Date: January 22, 2026.

67. RENEWAL—Expand Operating LLC; Pad ID: GU-S ROEHRIG SMITH Pad; ABR-201009085.R3; Herrick Township, Bradford County, Pa.; Consumptive Use of Up to 7.5000 mgd; Approval Date: January 22, 2026.

68. RENEWAL—Repsol Oil & Gas USA, LLC; Pad ID: Guindon 706; ABR-201009029.R3; Union Township, Tioga County, Pa.; Consumptive Use of Up to 6.0000 mgd; Approval Date: January 22, 2026.

69. RENEWAL—Coterra Energy Inc.; Pad ID: DerianchoF P1; ABR-201011055.R3; Bridgewater Township, Susquehanna County, Pa.; Consumptive Use of Up to 5.0000 mgd; Approval Date: January 23, 2026.

70. RENEWAL—Coterra Energy Inc.; Pad ID: Ely P2; ABR-20080722.R3; Dimock Township, Susquehanna County, Pa.; Consumptive Use of Up to 5.0000 mgd; Approval Date: January 23, 2026.

71. RENEWAL—EQT ARO LLC; Pad ID: Harry W Stryker Pad A; ABR-201011044.R3; Cogan House Township, Lycoming County, Pa.; Consumptive Use of Up to 4.0000 mgd; Approval Date: January 23, 2026.

72. RENEWAL—Expand Operating LLC; Pad ID: Dacheux Drilling Pad #1; ABR-201101014.R3; Cherry Township, Sullivan County, Pa.; Consumptive Use of Up to 7.5000 mgd; Approval Date: January 23, 2026.

73. RENEWAL—Seneca Resources Company, LLC; Pad ID: SSHC Pad A; ABR-201009055.R3; Lawrence Township, Clearfield County, Pa.; Consumptive Use of Up to 4.9990 mgd; Approval Date: January 23, 2026.

74. Seneca Resources Company, LLC; Pad ID: Lingle 1102 WEST; ABR-202601002; Deerfield Township, Tioga County, Pa.; Consumptive Use of Up to 4.0000 mgd; Approval Date: January 23, 2026.

Authority: Public Law 91-575, 84 Stat. 1509 et seq., 18 CFR parts 806 and 808.

Dated: January 27, 2026
Jason E. Oyler,
General Counsel and Secretary to the Commission.

[FR Doc. 2026-01790 Filed 1-28-26; 8:45 am]

BILLING CODE 7040-01-P